DEPARTMENT OF AGRICULTURE

Foreign Agricultural Service

Notice of Request for Information (RFI) Inviting Input About New Online Accounting, Filing, and Reporting Database for the Refined Sugar Re-Export Program, the Sugar Containing Products Re-Export Program, and the Polyhydric Alcohol Program

AGENCY: Foreign Agricultural Service, USDA.

ACTION: Request for information.

SUMMARY: The Foreign Agricultural Service (FAS) of the U.S. Department of Agriculture is building a new online system to manage the Refined Sugar Re-Export Program, the Sugar Containing Products Re-Export Program, and the Polyhydric Alcohol Program (hereinafter “the Sugar Re-Export Programs”) to replace the existing Sugars Users Group Accounting and Report System (SUGARS), launched in 2004. This request for information (RFI) seeks input regarding the new online system from all stakeholders involved directly or indirectly in the Sugar Re-Export Programs. This stakeholder input will inform FAS' efforts in developing a new, more efficient system to provide quality service to program users.

DATES: Comments on this notice must be received by August 8, 2022 to be assured of consideration.

ADDRESSES: USDA invites submission of the requested information through one of the following methods:

• Federal eRulemaking Portal: Go to http://www.regulations.gov. Follow the online instructions for submitting comments.

• Email: FAS will accept electronic submissions emailed to FAS.Sugars@usda.gov. The email should contain the subject line, “Response to RFI: New Online Accounting, Filing, and Reporting Database for the Refined Sugar Re-Export Program, the Sugar Containing Products Re-Export Program, and the Polyhydric Alcohol Program.”

Instructions: Response to this RFI is voluntary. All comments submitted in response to this RFI will be included in the record and will be made available to the public. Please be advised that the substance of the comments and the identity of the individuals or entities submitting the comments will be subject to public disclosure. USDA will make the comments publicly available via http://www.regulations.gov.

FOR FURTHER INFORMATION CONTACT: William Janis, International Economist, U.S. Department of Agriculture, Foreign Agricultural Service, telephone 202-720-2194, email FAS.Sugars@usda.gov.

SUPPLEMENTARY INFORMATION:

Background

FAS administers and manages three inter-related programs in the sugar market: the Refined Sugar Re-Export Program, the Sugar Containing Products Re-Export Program, and the Polyhydric Alcohol Program (see 7 CFR part 1530). FAS issues licenses to qualified sugar refiners, manufacturers of sugar-containing products (SCP), and producers of polyhydric alcohol not for human consumption which apply for these programs.

The Refined Sugar Re-Export Program provides a raw cane sugar refiner a license that authorizes three types of activities. First, a refiner with a refined sugar re-export license (“licensed refiner”) may import low-duty raw cane sugar, refine it, and re-export it to the world market. Second, the licensed refiner may export refined sugar produced with domestic or imported raw cane or beet sugar and later import low-duty raw cane sugar for any use. Third, the licensed refiner may import low-duty raw cane sugar for refining for any use and transfer refined sugar produced with domestic or imported raw cane or beet sugar to licensed U.S. manufacturers of sugar-containing products and/or licensed producers of polyhydric alcohol for non-food purposes.

U.S. manufacturers in the Sugar-Containing Products Re-Export Program obtain a license allowing them to buy world-priced refined cane or beet sugar from any licensed domestic cane or beet refiner for use in exported products.

U.S. producers of polyhydric alcohols in the Polyhydric Alcohol Program obtain a license allowing them to buy world-priced refined cane or beet sugar from any licensed domestic cane or beet refiner for use in polyhydric alcohols, except polyhydric alcohols incorporated as a substitute for sugar in human food consumption.

An in-house FAS online system called SUGARS currently serves to organize the many program transactions among the three sets of licensees. The interactions of exports, imports, transfers, and use resemble the workings of an online checking account. Documents must substantiate each stage of these program transactions.

Refiners manage their licenses using exports, imports, and transfers. Exports pertain to refined sugar shipped outside the United States. Imports reference raw cane sugar entering the United States. Transfers mean refined sugar sold to licensed SCP manufacturers and producers of polyhydric alcohol not for human consumption. Refiners increase their balances in tonnage by exporting refined sugar and selling refined sugar to licensed makers of SCPs and producers of polyhydric alcohol not for human consumption. Both of these transactions with SCP and polyhydric alcohol manufacturers qualify as transfers for the parties involved.

SCP licensees accumulate quantities in their accounts by claiming exports of their goods. Specifically, these amounts include only the net weight of sugar in the exported products. From their balances, SCP licensees may purchase world-priced refined sugar from licensed refiners. These transfers may not exceed the balances of SCP license holders.

Companies with polyhydric alcohol licenses report their use of refined sugar to produce polyhydric alcohol not for human consumption. They build their balances and may buy world-priced sugar from licensed refiners. These transfers may not exceed the balances of companies with polyhydric alcohol licenses.

A new system is being constructed to replace the existing SUGARS, which dates to 2004. The new system will be highly automated, better protected, and more streamlined. FAS envisions a more thoroughly encrypted seamless approach for transmitting and verifying data that operates like an online checking account.

Request for Information

A new system must accomplish the following objectives:

1. Help to enforce the terms and conditions of issued licenses under 7 CFR part 1530.

2. Be intuitive and user-friendly for licensees.

3. Provide licensees maximum access to their proprietary data.

4. Integrate fully the component parts of a license.

5. Allow for publication of aggregated, non-proprietary data.

6. Permit FAS to access and compile data needed for resolving issues.

7. Serve as a portal for interested parties to apply for licenses.

As the system remains in development, this RFI is a general solicitation for public input from all stakeholders involved directly or indirectly in the Sugar Re-export Programs. This stakeholder input will inform efforts to build a system to operate more efficiently and provide quality service to program users.

Specific questions to which responses are requested are listed below. Respondents may provide non-confidential input concerning any or all of these questions. In addition, this representative list does not cover all aspects of a new system to replace SUGARS. Therefore, we welcome other input on topics not covered in these questions. In particular, please provide any additional recommendations related to achieving the seven objectives noted above.

1. Should the new system continue the current SUGARS structure resembling an online checking account? For example: Exports for SCP licensees and use for polyhydric alcohol licensees count as deposits. Meanwhile, purchases of program sugar from licensed refiners qualify as withdrawals. In turn, refiners rely on their balances of exports, imports, and transfers to enter low-duty imports of raw cane sugar.

2. SUGARS currently requires licensees to use a spreadsheet tool to upload data to their accounts. After receiving and reviewing the uploaded information, FAS transmits by email to licensees their balance information. FAS envisions a new, more thoroughly encrypted seamless approach for communicating this data, like an online checking account. What features are needed in a new system to allow licensees and FAS to more easily and more securely transmit, verify and access data?

3. The new system could be created to permit each licensee complete access to data and license documents provided by the licensee to FAS without having to obtain permission from FAS, such as the original application package. These documents could be stored for a number of years in the licensee's account in the new system. Please share your perspectives on this matter.

4. In what ways could or should the new system allow or require licensees to upload supporting documents for each program transaction?

5. Should the license application process be incorporated into the new system?

6. What other features, if any, should the new system include to improve program operations?

Any information obtained from this RFI is intended to be used by the Government on a non-attribution basis for planning and developing a successor system to SUGARS. This RFI does not constitute a formal solicitation for proposals or abstracts. Your response to this notice will be treated as information only. FAS will not reimburse any costs incurred in responding to this RFI. Respondents are advised that FAS is under no obligation to acknowledge receipt of the information received or provide feedback to respondents with respect to any information submitted under this RFI. Responses to this RFI do not bind FAS to any further actions related to this topic. Responses will become government property.

No confidential information, such as confidential business information or proprietary information, should be submitted in comments for this RFI. Comments received in response to this notice will be a matter of public record and will be made available for public inspection and posted without change and as received, including any business information or personal information provided in the comments, such as names and addresses. Please do not include anything in your comment submission that you do not wish to share with the general public.

Aileen Mannix,
Acting Licensing Authority, Foreign Agricultural Service.

[FR Doc. 2022-14556 Filed 7-7-22; 8:45 am]

BILLING CODE 3410-10-P